SECURITIES AND EXCHANGE COMMISSION

[Release No. 34-64889; File No. SR-BATS-2011-018]

Self-Regulatory Organizations; BATS Exchange, Inc.; Notice of Designation of a Longer Period for Commission Action on Proposed Rule Change To Adopt Rules for the Qualification, Listing and Delisting of Companies on the Exchange

July 14, 2011.

I. Introduction

On May 12, 2011, BATS Exchange, Inc. (the “Exchange” or “BATS”) filed with the Securities and Exchange Commission (“Commission”), pursuant to Section 19(b)(1) of the Securities Exchange Act of 1934 (“Act”) ¹ and Rule 19b-4 thereunder,² a proposed rule change to adopt rules for the qualification, listing and delisting of companies on the Exchange. The proposed rule change was published for comment in the Federal Register on June 1, 2011.³ The Commission received no comment letters regarding the proposal.

¹ 15 U.S.C. 78s(b)(1).

² 17 CFR 240.19b-4.

³ See Securities Exchange Act Release No. 64546 (May 25, 2011), 76 FR 31660 (June 1, 2011) (“Notice”).

Section 19(b)(2) of the Act ⁴ provides that within 45 days of the publication of notice of the filing of a proposed rule change, or within such longer period up to 90 days as the Commission may designate if it finds such longer period to be appropriate and publishes its reasons for so finding or as to which the self-regulatory organization consents, the Commission shall either approve the proposed rule change, disapprove the proposed rule change, or institute proceedings to determine whether the proposed rule change should be disapproved. The 45th day for this filing is July 16, 2011.

⁴ 15 U.S.C. 78s(b)(2).

The Commission is hereby extending the 45-day period for Commission action on the proposed rule change. The Commission finds that it is appropriate to designate a longer period within which to take action on the proposed rule change. In particular, the extension of time will ensure that the Commission has sufficient time to consider and take action on the Exchange's proposal, which will be part of a comprehensive set of proposals, including, but not limited to, the establishment of new trading rules and a BATS official closing price for securities primarily listed on BATS.

Accordingly, pursuant to Section 19(b)(2)(A)(ii)(I) of the Act ⁵ and for the reasons stated above, the Commission designates August 30, 2011, as the date by which the Commission should either approve or disapprove, or institute proceedings to determine whether to disapprove, the proposed rule change File No. SR-BATS-2011-018.

⁵ 15 U.S.C. 78s(b)(2)(A)(ii)(I).

For the Commission, by the Division of Trading and Markets, pursuant to delegated authority.⁶
⁶ 17 CFR 200.30-3(a)(31).
Cathy H. Ahn,
Deputy Secretary.

[FR Doc. 2011-18340 Filed 7-20-11; 8:45 am]

BILLING CODE 8011-01-P